DEPARTMENT OF HEALTH AND HUMAN SERVICES

Health Resources and Service Administration

National Advisory Council on Nurse Education and Practice; Notice of Public Meeting

AGENCY: Health Resources and Service Administration (HRSA), Department of Health and Human Services (HHS).

ACTION: Meeting notice.

SUMMARY: The National Advisory Council on Nurse Education and Practice (NACNEP) has scheduled a public meeting. Information about NACNEP and the agenda for this meeting can be found on the NACNEP website at https://www.hrsa.gov/advisory-committees/nursing/index.html.

DATES: September 26, 2018, 9:00 a.m. to 4:00 p.m., and September 27, 2018, 9:00 a.m. to 2:00 p.m. ET.

ADDRESSES: This meeting will be held in person and offer virtual access through teleconference and webinar. The address for the meeting is 5600 Fishers Lane, Rockville, Maryland 20857.

• Webinar link: https://hrsa.connectsolutions.com/nacnep/.

• Conference call-in number: 1-800-289-0436; passcode: 211848.

FOR FURTHER INFORMATION CONTACT: Tracy L. Gray, MBA, MS, RN, Designated Federal Official, Division of Nursing and Public Health, Bureau of Health Workforce, HRSA. Address: 5600 Fishers Lane, 11N112, Rockville, Maryland 20857; phone: 301-443-3346; or email: Tgray1@hrsa.gov.

SUPPLEMENTARY INFORMATION: NACNEP provides advice and recommendations to the Secretary of HHS and the U.S. Congress on policy issues related to the activities carried out under Title VIII of the Public Health Service (PHS) Act. The Secretary of HHS, and by delegation, the Administrator of HRSA, is charged under Title VIII of the PHS Act as amended, with responsibility for a wide range of activities in support of nursing education and practice which include: Enhancement of the composition of the nursing workforce; improvement of the distribution and utilization of nurses to meet the health needs of the nation; expansion of the knowledge, skills, and capabilities of nurses to enhance the quality of nursing practice; development and dissemination of improved models of organization; financing and delivery of nursing services; and promotion of interdisciplinary approaches to the delivery of health services particularly in the context of public health and primary care.

During the September 26-27, 2018, meeting, NACNEP will discuss areas where nursing can take the lead in the transition of the health care system to value-based care, to advance the development of its 15th annual report. The report is submitted to the Secretary, the Committee on Health, Education, Labor, and Pensions of the Senate and the Committee on Energy and Commerce of the House of Representatives. The members will also discuss strategic priorities and future directions for NACNEP.

Members of the public will have the opportunity to provide comments. Public participants may submit written statements in advance of the scheduled meeting. Oral comments will be honored in the order they are requested and may be limited as time allows. Requests to make oral comments or provide written comments to NACNEP should be sent to Ms. Tracy L. Gray, Designated Federal Official, using the contact information above at least 3 business days prior to the meeting.

Individuals who plan to attend and need special assistance or another reasonable accommodation should notify Ms. Tracy L. Gray at the address and phone number listed above at least 10 business days prior to the meeting. Since this meeting occurs in a federal government building, attendees must go through a security check to enter the building. Non-U.S. Citizen attendees must notify HRSA of their planned attendance at least 10 business days prior to the meeting in order to facilitate their entry into the building. All attendees are required to present government-issued identification prior to entry.

John R. Womack,
Acting Deputy Director, Division of the Executive Secretariat.

[FR Doc. 2018-19168 Filed 9-4-18; 8:45 am]

BILLING CODE 4165-15-P